NATIONAL SCIENCE FOUNDATION

Special Emphasis Panel in Polar Programs: Notice of Meeting

In accordance with the Federal Advisory Committee Act (Pub. L. 92-463, as amended), the National Science Foundation announces the following meeting:

Name and Committee Code: Special Emphasis Panel in Polar Programs (1209).

Date and Time: June 27-29, 2000; 8:30 am-5 pm.

Place: National Science Foundation, 4201 Wilson Blvd., Room 330, Arlington, VA.

Type of Meeting: Closed.

Contact Person: Polly A. Penhale, Program Manager, Antarctic Biology and Medicine, Office of Polar Programs. Rm. 755 S, 4201 Wilson Boulevard, Arlington, VA 22230. Telephone: (703) 306-1033.

Minutes: May be obtained from the contact person listed above.

Purpose of Meeting: To provide advice and recommendations concerning proposals submitted to NSF for financial support.

Agenda: To review and evaluate proposals submitted to Life in Extreme Environments (LExEN) NSF-00-37 as part of the selection process for awards.

Reason for Closing: The proposals being reviewed include information of a proprietary or confidential nature, including technical information; financial data, such as salaries; and personal information concerning individuals associated with the proposals. These matters are exempt under 5 U.S.C. 552b(c), (4) and (6) of the Government in the Sunshine Act.

Dated: May 26, 2000.
Karen J. York,
Committee Management Officer.

[FR Doc. 00-13681 Filed 5-31-00; 8:45 am]

BILLING CODE 7555-01-M